DEPARTMENT OF ENERGY

Federal Energy Regulatory Commission

[Docket No. RM09-2-001]

Contract Reporting Requirements of Intrastate Natural Gas Companies; Notice of Extension of Time and Notice of Corrections

In a May 20, 2011, filing in this proceeding, the Texas Pipeline Association requests that the Commission extend the deadline by which section 311 of the Natural Gas Policy Act of 1978 and Hinshaw pipelines must comply with the requirements of Order Nos. 735 and 735-A.¹ Specifically, it requests a delay until 90 days after the revised Form No. 549D, XML schema format, and Data Dictionary and Instruction have been finalized and posted on the FERC Web site. Enogex LLC and Atmos Energy filed comments in support.

¹ Contract Reporting Requirements of Intrastate Natural Gas Companies, 133 FERC ¶ 61,150 (May 20, 2010) (Order No. 735), 133 FERC ¶ 61,216 (December 16, 2010) (Order No. 735-A).

For good cause shown and because the Office of Management & Budget (OMB) has approved the corrected versions of the Form 549D, the Data Dictionary and Instructions, notice is hereby given that all section 311 and Hinshaw pipelines are granted an extension of time. The deadline for filing Form 549D for the first quarter of calendar year 2011 shall be extended until September 9, 2011. However, Respondents will not be able to eFile their data until August 15, 2011. The deadline for filing Form 549D for the second quarter of calendar year 2011 shall be extended until September 30, 2011. The third and fourth quarter reports are due 60 days after the end of their respective quarters.

Commission Staff has corrected the Data Dictionary and Instructions for filing Form 549D. Staff also corrected and completed testing of a corrected XML XSD file (XML Schema) and corrected fillable Form 549D PDF with assistance of a Form 549D Test Group.² The Test Group was formed with the approval by OMB. Staff wishes to acknowledge the efforts of the Test Group and thank them for their participation.

² The Form 549D Test Group consisted of Humble Gas Pipeline Company, Enterprise Products Partners, L.P., Enbridge, Pacific Gas & Electric Company, AGL Resources, Energy Transfer Partners, L.P. Spectra Energy Corp., Regency Energy Partners and Kinder Morgan.

Staff is publishing the following corrected documents on the FERC Web site for use by Respondents and software developers who wish to create tools to facilitate compliance with the requirements of Order Nos. 735 and 735-A: (1) Fillable Form 549D PDF, (2) XML XSD file, and (3) Data Dictionary and Instruction for completing the Form 549D. Only these documents should be used to eFile the Form 549D.

Staff is also publishing in eLibrary a log of the changes to help Respondents understand the changes that were made and a redline/strikeout copy of the Data Dictionary and Instructions. The log of changes and the redline/strikeout copy of the Data Dictionary and Instructions will not be published in the Federal Register. Respondents should consult the Form 549D web page, especially the filing tips and instructions on the FERC Web site for more detailed information. Any questions should be sent to the Form549D@ferc.gov mail box.

Dated: June 24, 2011.
Nathaniel J. Davis, Sr.
Deputy Secretary.

[FR Doc. 2011-16693 Filed 7-1-11; 8:45 am]

BILLING CODE 6717-01-P